GENERAL SERVICES ADMINISTRATION

Notice of a Deviation; Motor Vehicle Management

AGENCY: Office of Governmentwide Policy, General Services Administration (GSA).

ACTION: Notice of a deviation.

SUMMARY: This notice announces that the General Services Administration (GSA), Office of Governmentwide Policy (M), is granting a deviation from the Federal Management Regulation (FMR) to all agencies whose purchase of gasoline for motor vehicles has been impacted by Hurricanes Katrina and Rita. This deviation will allow Federal agencies to purchase premium gasoline for government owned and leased vehicles when lower grade gasoline is not available. This deviation can be found at www.gsa.gov/vehiclepolicy and clicking on “Deviation from 41 CFR 102-34.335”.

DATES: The deviation announced in this notice is effective September 8, 2005.

FOR FURTHER INFORMATION CONTACT: For clarification of content, contact General Services Administration, Office of Governmentwide Policy, Office of Travel, Transportation and Asset Management, at (202) 501-1777 and cite the deviation regarding motor vehicle management dated September 30, 2005.

SUPPLEMENTARY INFORMATION:

A. Background

Federal Management Regulation (FMR) section 102-34.335 (41 CFR 102-34.335) prohibits the use of premium grade gasoline in any motor vehicle owned or leased by the Government unless the motor vehicle specifically requires premium grade gasoline. This section states that drivers are to use the grade (octane rating) of gasoline recommended by the motor vehicle manufacturer when fueling motor vehicles owned or leased by the Government.

As a result of the catastrophic destruction caused by Hurricanes Katrina and Rita, agencies have reported that their vehicles operators are unable to purchase lower octane gasoline for their vehicles to complete their missions. In many areas, agencies have only been able to procure premium gasoline for use in their motor vehicles. The original intent of section 102-34.335 was to reduce fuel costs and eliminate the unnecessary use of premium gasoline in vehicles capable of being operated on lower grade gasoline.

A notice announcing this deviation was published in the Federal Register on September 16, 2005 (70 FR 54747) as a result of Hurricane Katrina. This notice amends that notice by including all agencies whose purchase of gasoline for motor vehicles has been impacted by both Hurricanes Katrina and Rita.

B. Procedures

This deviation is located on the Internet at www.gsa.gov/vehiclepolicy and clicking on “Deviation from 41 CFR 102-34.335”.

Dated: September 30, 2005.
Becky Rhodes,
Deputy Associate Administrator.

[FR Doc. 05-20375 Filed 10-11-05; 8:45 am]

BILLING CODE 6820-14-S